DEPARTMENT OF ENERGY

Federal Energy Regulatory Commission

[Docket No. CP05-398-000]

Dominion Transmission, Inc.; Notice of Application

August 10, 2005.

On August 3, 2005, Dominion Transmission, Inc. (Dominion), pursuant to section 7(b) of the Natural Gas Act, and Part 157 of the regulations of the Federal Energy Regulatory Commission (Commission) filed an abbreviated application for emergency abandonment of three wells at its Oakford Storage Complex located in Westmoreland County, Pennsylvania. Dominion states that deteriorated conditions of the wells' production casings necessitate this action to prevent rupture and gas leakage. Construction and operation of the storage field was originally authorized in 1950. This filing is available for review at the Commission or may be viewed on the Commission's Web site at http://www.ferc.gov by using the eLibrary (FERRIS) link. Enter the docket number excluding the last three digits in the docket number filed to access the document. For assistance, please contact FERC Online Support at FERC OnlineSupport@ferc.gov or call toll-free at (866) 206-3676, or for TTY, contact (202) 502-8659.

Questions concerning the application may be directed to Matthew R. Bley, Certificates Manager, Dominion Transmission, Inc., 120 Tredegar Street, Richmond, Virginia 23219, by calling (804) 819-2877, or facsimile (804) 819-2064.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding. However, a person does not have to intervene in order to have comments considered.

The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See 18 CFR 385.2001(a)(1)(iii) and the instructions on the Commission's Web site under the “e-Filing” link. The Commission strongly encourages intervenors to file electronically.

Comment Date: August 22, 2005.

Linda Mitry,
Deputy Secretary.

[FR Doc. E5-4435 Filed 8-15-05; 8:45 am]

BILLING CODE 6717-01-P